DEPARTMENT OF DEFENSE

Office of the Secretary

[Docket ID DOD-2019-HA-0066]

Proposed Collection; Comment Request

AGENCY: Office of the Assistant Secretary of Defense for Health Affairs, DoD.

ACTION: Information collection notice.

SUMMARY: In compliance with the Paperwork Reduction Act of 1995, the Defense Health Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 9, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Psychological Health Center of Excellence (PHCoE), 1335 East West Highway, 3-315, Silver Spring, MD 20910 ATTN: LT Evette Pinder, evette.d.pinder.mil@mail.mil or 301-295-3705.

SUPPLEMENTARY INFORMATION: Title; Associated Form; and OMB Number: Cross-Agency Assessment of Campaigns to Reduce Negative Perceptions about Mental Health; OMB Control Number 0720-XXXX.

Needs and Uses: The information collection requirement is necessary to conduct an online study testing the potential for influence of Department of Defense (DoD), Department of Veterans Affairs (VA), and Department of Health and Human Services (HHS) mental health public awareness campaigns on participants of an online panel. Military service members, veterans, and friends and family members of service members and veterans will be recruited from the panel. They will complete online surveys and view mental health public awareness campaign materials (e.g. public service announcements websites). The purpose of this research is to evaluate how exposure to these federally-funded mental health public awareness campaigns change key outcomes related to mental health and health care, such as mental health awareness (e.g., knowing how to recognize and support someone with a mental health problem), perceptions and beliefs about stigma and other barriers to care (e.g., social distance, concerns about career impacts), attitudes towards seeking professional help, intentions to seek treatment if needed, and intentions to conceal a mental health problem. This study is part of larger evaluation study of DoD, VA, and HHS mental health public awareness campaigns. DoD, VA, and HHS will use the findings from these analyses to improve their mental health public awareness campaigns. Additionally, the findings from the study will be shared through publicly available communications.

Affected Public: Individuals or Households.

Annual Burden Hours: 877.338.

Number of Respondents: 2,772.

Responses per Respondent: 3.

Annual Responses: 8,316.

Average Burden per Response: 6.33 minutes.

Frequency: As required.

Dated: June 5, 2019.
Aaron T. Siegel,
Alternate OSD Federal Register, Liaison Officer, Department of Defense.

[FR Doc. 2019-12138 Filed 6-7-19; 8:45 am]

BILLING CODE 5001-06-P